DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection, the Aquaculture Surveys. Revision to burden hours will be needed due to changes in the size of the target population, sampling design, and/or questionnaire length.

DATES: Comments on this notice must be received by December 24, 2013 to be assured of consideration.

ADDRESSES: You may submit comments, identified by docket number 0535-0150, by any of the following methods:

• Email: ombofficer@nass.usda.gov. Include docket number above in the subject line of the message.

• Fax: (202) 720-6396.

• Mail: Mail any paper, disk, or CD-ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336 South Building, 1400 Independence Avenue SW., Washington, DC 20250-2024.

FOR FURTHER INFORMATION CONTACT: Joseph T. Reilly, Associate Administrator, National Agricultural Statistics Service, U.S. Department of Agriculture, (202) 720-4333. Copies of this information collection and related instructions can be obtained without charge from David Hancock, NASS Clearance Officer, at (202) 690-2388.

SUPPLEMENTARY INFORMATION:

Title: Aquaculture Surveys.

OMB Control Number: 0535-0150.

Expiration Date: March 31, 2014.

Type of Request: To revise and extend a currently approved information collection for a period of three years.

Abstract: The primary objective of the National Agricultural Statistics Service is to prepare and issue State and national estimates of crop and livestock production, prices, and disposition. The Aquaculture Surveys collect information on both trout and catfish. The trout surveys include: inventory counts, sales (dollars, pounds and quantity), percent of product sold by outlet at the point of first sale, number of fish raised for release into open waters, and losses. The catfish surveys include: inventory counts, water surface acreage used for production, sales (dollars, pounds, and quantity), number of catfish processed, and amount of catfish feed delivered to catfish producers. Survey results are used by government agencies in planning farm programs.

• Twenty-five States are in the Trout Production Survey. In January, data are collected in the selected states that produce and either sell or distribute trout. State, federal, tribal, and other facilities where trout are raised for conservation, restoration, or recreational purposes are included in the survey.

• Nine States are in the Catfish Production Survey. Data are collected from farmers in January for inventory, water surface acreage, and previous year sales. In addition, farmers in the three major catfish producing States are surveyed in July for mid-year inventory and water surface acreage.

• All catfish processing plants, with the capacity to process 2,000 pounds of live weight per 8 hour shift are in the Catfish Processing Survey. Plants are surveyed monthly for amount purchased, prices paid, amount sold, prices received, and end-of-month inventories.

• Nine catfish millers are surveyed monthly for the amount of feed delivered for foodsize fish, fingerlings, and broodfish.

Authority: These data will be collected under authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 (44 U.S.C. 3501, et seq.) and Office of Management and Budget regulations at 5 CFR part 1320.

NASS also complies with OMB Implementation Guidance, “Implementation Guidance for Title V of the E-Government Act, Confidential Information Protection and Statistical Efficiency Act of 2002 (CIPSEA),” Federal Register, Vol. 72, No. 115, June 15, 2007, p. 33362.

Estimate of Burden: Individual questionnaire burden ranges from 10 minutes to 15 minutes per response. Public reporting burden for this collection of information is estimated to average less than 15 minutes per response with 1.5 responses per grower and 12 responses each for feed mills and processors. Pre-survey publicity or cover letters will also be included to encourage respondents to complete and return the surveys and to provide the respondents with information on how to complete the surveys using the internet.

Respondents: Farms, feed mills and processors.

Estimated Number of Respondents: Approximately 2,500 per year.

Estimated Total Annual Burden on Respondents: 650 hours.

Comments: Comments are invited on: (a) whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, September 26, 2013.
Joseph T. Reilly,
Associate Administrator.

[FR Doc. 2013-25201 Filed 10-24-13; 8:45 am]

BILLING CODE 3410-20-P